DEPARTMENT OF HOMELAND SECURITY

Federal Emergency Management Agency

44 CFR Part 64

[Docket ID FEMA-2012-0003; Internal Agency Docket No. FEMA-8257]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date. Also, information identifying the current participation status of a community can be obtained from FEMA's Community Status Book (CSB). The CSB is available at http://www.fema.gov/fema/csb.shtm.

DATES: The effective date of each community's scheduled suspension is the third date (“Susp.”) listed in the third column of the following tables.

FOR FURTHER INFORMATION CONTACT: If you want to determine whether a particular community was suspended on the suspension date or for further information, contact David Stearrett, Federal Insurance and Mitigation Administration, Federal Emergency Management Agency, 500 C Street SW., Washington, DC 20472, (202) 646-2953.

SUPPLEMENTARY INFORMATION: The NFIP enables property owners to purchase Federal flood insurance that is not otherwise generally available from private insurers. In return, communities agree to adopt and administer local floodplain management measures aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR part 59. Accordingly, the communities will be suspended on the effective date in the third column. As of that date, flood insurance will no longer be available in the community. We recognize that some of these communities may adopt and submit the required documentation of legally enforceable floodplain management measures after this rule is published but prior to the actual suspension date. These communities will not be suspended and will continue to be eligible for the sale of NFIP flood insurance. A notice withdrawing the suspension of such communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment procedures under 5 U.S.C. 553(b), are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, Section 1315, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR Part 64 is amended as follows:

PART 64—[AMENDED]

1. The authority citation for Part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region IV
Florida:
Fellsmere, City of, Indian River County | 120120 | N/A, Emerg; October 18, 1993, Reg; December 4, 2012, Susp | Dec. 4, 2012 | Dec. 4, 2012.
Indian River County, Unincorporated Areas | 120119 | July 14, 1972, Emerg; July 3, 1978, Reg; December 4, 2012, Susp | ......do* | Do.
Indian River Shores, Town of, Indian River County | 120121 | August 15, 1973, Emerg; September 5, 1979, Reg; December 4, 2012, Susp | ......do | Do.
Orchid, Town of, Indian River County | 120122 | July 24, 1975, Emerg; April 15, 1980, Reg; December 4, 2012, Susp | ......do | Do.
Sebastian, City of, Indian River County | 120123 | September 2, 1975, Emerg; April 15, 1980, Reg; December 4, 2012, Susp | ......do | Do.
Vero Beach, City of, Indian River County | 120124 | December 15, 1972, Emerg; September 30, 1977, Reg; December 4, 2012, Susp | ......do | Do.
Region V
Indiana:
Floyd County, Unincorporated Areas. | 180432 | December 2, 1976, Emerg; January 2, 1981, Reg; December 4, 2012, Susp | ......do | Do.
Georgetown, Town of, Floyd County | 180063 | March 31, 1975, Emerg; March 28, 1980, Reg; December 4, 2012, Susp | ......do | Do.
New Albany, City of, Floyd County | 180062 | October 1, 1971, Emerg; December 17, 1976, Reg; December 4, 2012, Susp | ......do | Do.
Pine Village, Town of, Warren County | 180564 | December 19, 2008, Emerg; N/A, Reg; December 4, 2012, Susp | ......do | Do.
Warren County, Unincorporated Areas. | 180448 | February 25, 2004, Emerg; N/A, Reg; December 4, 2012, Susp | ......do | Do.
West Lebanon, Town of, Warren County | 180565 | December 19, 2008, Emerg; N/A, Reg; December 4, 2012, Susp | ......do | Do.
Williamsport, Town of, Warren County | 180272 | June 3, 1976, Emerg; September 1, 1988, Reg; December 4, 2012, Susp | ......do | Do.
Michigan:
Chesterfield, Township of, Macomb County | 260120 | November 24, 1972, Emerg; July 3, 1978, Reg; December 4, 2012, Susp | ......do | Do.
Clinton, Charter Township of, Macomb County | 260121 | February 9, 1973, Emerg; August 1, 1979, Reg; December 4, 2012, Susp | ......do | Do.
Harrison, Township of, Macomb County | 260123 | December 8, 1972, Emerg; May 5, 1981, Reg; December 4, 2012, Susp | ......do | Do.
Iron Mountain, City of, Dickinson County | 260063 | April 8, 1975, Emerg; October 16, 1991, Reg; December 4, 2012, Susp | ......do | Do.
Kingsford, City of, Dickinson County | 260064 | June 23, 1975, Emerg; N/A, Reg; December 4, 2012, Susp | ......do | Do.
Mount Clemens, City of, Macomb County | 260124 | April 5, 1973, Emerg; July 16, 1980, Reg; December 4, 2012, Susp | ......do | Do.
New Baltimore, City of, Macomb County | 260125 | January 12, 1973, Emerg; September 1, 1978, Reg; December 4, 2012, Susp | ......do | Do.
Saint Clair Shores, City of, Macomb County | 260127 | December 1, 1972, Emerg; August 1, 1979, Reg; December 4, 2012, Susp | ......do | Do.
Waucedah, Township of, Dickinson County | 260986 | March 11, 1997, Emerg; N/A, Reg; December 4, 2012, Susp | ......do | Do.
Region VI
New Mexico:
Española, City of, Santa Fe County | 350052 | April 4, 1975, Emerg; February 19, 1986, Reg; December 4, 2012, Susp | ......do | Do.
Santa Fe, City of, Santa Fe County | 350070 | February 13, 1975, Emerg; July 2, 1980, Reg; December 4, 2012, Susp | ......do | Do.
Santa Fe County, Unincorporated Areas | 350069 | March 25, 1976, Emerg; November 4, 1988, Reg; December 4, 2012, Susp | ......do | Do.
Texas:
Briaroaks, City of, Johnson County | 480398 | N/A, Emerg; June 15, 2010, Reg; December 4, 2012, Susp | ......do | Do.
Cleburne, City of, Johnson County | 485462 | April 2, 1971, Emerg; June 23, 1972, Reg; December 4, 2012, Susp | ......do | Do.
Godley, City of, Johnson County | 480880 | N/A, Emerg; February 18, 2011, Reg; December 4, 2012, Susp | ......do | Do.
Grandview, City of, Johnson County | 480881 | N/A, Emerg; July 17, 2002, Reg; December 4, 2012, Susp | ......do | Do.
Johnson County, Unincorporated Areas | 480879 | August 25, 1989, Emerg; September 27, 1991, Reg; December 4, 2012, Susp | ......do | Do.
Joshua, City of, Johnson County | 480882 | September 9, 1991, Emerg; September 27, 1991, Reg; December 4, 2012, Susp | ......do | Do.
Keene, City of, Johnson County | 481107 | N/A, Emerg; February 21, 2001, Reg; December 4, 2012, Susp | ......do | Do.
Mansfield, City of, Johnson County | 480606 | February 28, 1975, Emerg; December 18, 1985, Reg; December 4, 2012, Susp | ......do | Do.
Rio Vista, Village of, Johnson County | 481159 | September 6, 1991, Emerg; September 27, 1991, Reg; December 4, 2012, Susp | ......do | Do.
Venus, City of, Johnson County | 480883 | May 13, 1991, Emerg; September 27, 1991, Reg; December 4, 2012, Susp | ......do | Do.
Region VII
Iowa:
Barnum, City of, Webster County | 190528 | May 6, 1994, Emerg; September 1, 1996, Reg; December 4, 2012, Susp | ......do | Do.
Dayton, City of, Webster County | 190565 | August 19, 1994, Emerg; September 1, 1996, Reg; December 4, 2012, Susp | ......do | Do.
Fort Dodge, City of, Webster County | 195181 | June 19, 1970, Emerg; April 9, 1971, Reg; December 4, 2012, Susp | ......do | Do.
Lehigh, City of, Webster County | 190310 | October 3, 1979, Emerg; September 4, 1985, Reg; December 4, 2012, Susp | ......do | Do.
Moorland, City of, Webster County | 190784 | August 20, 1993, Emerg; September 1, 1996, Reg; December 4, 2012, Susp | ......do | Do.
Webster County, Unincorporated Areas | 190831 | March 2, 1979, Emerg; October 1, 1985, Reg; December 4, 2012, Susp | ......do | Do.
Region VIII
Montana:
Carbon County, Unincorporated Areas | 300139 | March 23, 1978, Emerg; November 4, 1981, Reg; December 4, 2012, Susp | ......do | Do.
Fromberg, Town of, Carbon County | 300005 | May 12, 1976, Emerg; November 4, 1981, Reg; December 4, 2012, Susp | ......do | Do.
Joliet, Town of, Carbon County | 300006 | April 26, 1979, Emerg; May 19, 1981, Reg; December 4, 2012, Susp | ......do | Do.
Red Lodge, City of, Carbon County | 300007 | June 30, 1975, Emerg; May 19, 1981, Reg; December 4, 2012, Susp | ......do | Do.
* do = Ditto.
Code for reading third column: Emerg.—Emergency; Reg.—Regular; Susp—Suspension.

Dated: November 8, 2012.
David L. Miller,
Associate Administrator, Federal Insurance and Mitigation Administration, Department of Homeland Security, Federal Emergency Management Agency.

[FR Doc. 2012-28121 Filed 11-19-12; 8:45 am]

BILLING CODE 9110-12-P